ELECTION ASSISTANCE COMMISSION

EAC 2020 Elections Disability, Accessibility, and Security Forum

AGENCY: U.S. Election Assistance Commission.

ACTION: Meeting notice; open to the public.

DATES: Thursday, February 20, 2020, 9:00 a.m.-3:00 p.m. (EDT).

ADDRESSES: Westin Georgetown, 2350 M St. NW, The Washington Room, Washington, DC 20037.

FOR FURTHER INFORMATION CONTACT: Patrick Leahy at (301) 960-1833.

SUPPLEMENTARY INFORMATION:

Agenda

The US Election Assistance Commission (EAC) is hosting an all-day forum to address growing concerns regarding accessibility and security in election administration. This forum will bring together state and local election officials, people with disabilities, disability advocates, and election security experts to discuss issues and potential actionable items. Agenda discussion topics will include: (1) The 2020 elections and voters with disabilities, (2) ballot-marking devices, (3) proven best practices in voting accessibility, (4) vote-by-mail, (5) electronic ballot delivery, and (6) emerging voting technology for people with disabilities. The EAC is committed to upholding the voting rights of people with disabilities established under the Help America Vote Act (HAVA) and Americans with Disabilities Act (ADA) amidst growing security needs. The full agenda will be posted in advance on the EAC website: https://www.eac.gov.

The Forum will be recorded and live streamed. The recording will be made available on the EAC website at a later date.

As space is limited, attendees are encouraged to register. Registration instructions and additional event information will be posted on the EAC event web page: https://www.eac.gov/events/2020/02/20/2020-elections-disability-accessibility-and-security-forum.

Nichelle S. Williams,
Director of Research, U.S. Election Assistance Commission.

[FR Doc. 2020-03053 Filed 2-14-20; 8:45 am]

BILLING CODE 6820-KF-P